DEPARTMENT OF TRANSPORTATION

Federal Aviation Administration

14 CFR Part 39

[Docket No. 98-ANE-48-AD; Amendment 39-11940; AD 2000-21-08]

RIN 2120-AA64

Airworthiness Directives; Pratt & Whitney JT8D Series Turbofan Engines; Correction

AGENCY: Federal Aviation Administration, DOT.

ACTION: Final rule; correction.

SUMMARY: This document makes a correction to Airworthiness Directive (AD) 2000-21-08 applicable to Pratt & Whitney JT8D series turbofan engines that was published in the Federal Register on October 24, 2000 (65 FR 63537). The statement identifying AD 2000-21-08 as superseding AD 99-12-03, Amendment 39-11187 (64 FR 30379, dated June 8, 1999), was inadvertently omitted from the AD. This document corrects that statement. In all other respects, the original document remains the same.

EFFECTIVE DATE: April 23, 2001.

FOR FURTHER INFORMATION CONTACT: Christopher Spinney, Aerospace Engineer, Engine Certification Office, FAA, Engine and Propeller Directorate, 12 New England Executive Park, Burlington, MA 01803; telephone 781-238-7175, fax 781-238-7199.

SUPPLEMENTARY INFORMATION: A final rule airworthiness directive (FR Doc. 00-26971) applicable to Pratt & Whitney JT8D series turbofan engines was published in the Federal Register on October 24, 2000 (65 FR 63537). The following correction is needed:

§ 39.13 [Corrected]

On page 63539, in the first column, the AD heading is corrected to read “AD 2000-21-08 Pratt & Whitney: Amendment 39-11940. Docket 98-ANE-48-AD. Supersedes AD 99-12-03, Amendment 39-11187.”.

Issued in Burlington, MA, on October 26, 2000.
David A. Downey,
Assistant Manager, Engine and Propeller Directorate, Aircraft Certification Service.

[FR Doc. 00-28091 Filed 11-1-00; 8:45 am]

BILLING CODE 4910-13-P